DEPARTMENT OF TRANSPORTATION

Federal Aviation Administration

14 CFR Part 39

[Docket No. 2000-NM-301-AD; Amendment 39-11904; AD 2000-19-03]

RIN 2120-AA64

Airworthiness Directives; Empresa Brasileira de Aeronautica S.A. (EMBRAER) Model EMB-135 and EMB-145 Series Airplanes

AGENCY: Federal Aviation Administration, DOT.

ACTION: Final rule; request for comments.

SUMMARY: This amendment adopts a new airworthiness directive (AD) that is applicable to certain EMBRAER Model EMB-135 and EMB-145 series airplanes. This action requires a one-time inspection of the coupling hinge and locking fastener of the Gamah couplings of the fuel system tubing located in the wing dry bay to detect discrepancies, and follow-on corrective actions. This action is necessary to prevent failure of the rivets of the Gamah couplings and consequent separation of a Gamah coupling, which could result in fuel leakage and consequent fire in or around the wing. This action is intended to address the identified unsafe condition.

DATES: Effective October 3, 2000.

The incorporation by reference of certain publications listed in the regulations is approved by the Director of the Federal Register as of October 3, 2000.

Comments for inclusion in the Rules Docket must be received on or before October 18, 2000.

ADDRESSES: Submit comments in triplicate to the Federal Aviation Administration (FAA), Transport Airplane Directorate, ANM-114, Attention: Rules Docket No. 2000-NM-301-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via the Internet must contain “Docket No. 2000-NM-301-AD” in the subject line and need not be submitted in triplicate. Comments sent via fax or the Internet as attached electronic files must be formatted in Microsoft Word 97 for Windows or ASCII text.

The service information referenced in this AD may be obtained from Empresa Brasileira de Aeronautica S.A. (EMBRAER), P.O. Box 343—CEP 12.225, Sao Jose dos Campos—SP, Brazil. This information may be examined at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

FOR FURTHER INFORMATION CONTACT: Linda M. Haynes, Aerospace Engineer, Airframe and Propulsion Branch, ACE-117A, FAA, Atlanta Aircraft Certification Office, One Crown Center, 1895 Phoenix Boulevard, suite 450, Atlanta, Georgia 30337-2748; telephone (770) 703-6091; fax (770) 703-6097.

SUPPLEMENTARY INFORMATION: The Departmento de Aviacao Civil (DAC), which is the airworthiness authority for Brazil, notified the FAA that an unsafe condition may exist on certain EMBRAER Model EMB-135 and EMB-145 series airplanes. The DAC advises that it received reports of Gamah coupling failures on certain EMB-145 airplanes, which resulted in significant fuel leakage. One of the incidents occurred during landing and resulted in over 1,000 pounds of fuel being spilled on to the airport runway. The other incident occurred while the airplane was being refueled and the amount of fuel leaked is unknown. This condition, if not corrected, could result in fuel leakage and consequent fire in or around the wing.

The Gamah couplings installed on Model EMB-145 series airplanes are the same as those installed on Model EMB-135 series airplanes. Therefore, the latter model also is affected by the identified unsafe condition and is included in the applicability of this AD.

Explanation of Relevant Service Information

The manufacturer has issued Embraer Alert Service Bulletin S.B. 145-28-A014, dated August 25, 2000, which describes procedures for a one-time visual inspection of the hinge and locking fastener of the Gamah couplings of the fuel system tubing located in the wing dry bay to detect discrepancies, and follow-on corrective actions. (The follow-on actions consist of replacing of the affected Gamah couplings and securing those couplings with locking wire if discrepancies are detected, or securing the Gamah couplings with locking wire if no discrepancies are detected.) Accomplishment of the action specified in the service bulletin is intended to adequately address the identified unsafe condition. The DAC classified this service bulletin as mandatory and issued Brazilian emergency airworthiness directive 2000-09-01, dated September 1, 2000, in order to assure the continued airworthiness of these airplanes in Brazil.

FAA's Conclusions

This airplane model is manufactured in Brazil and is type certificated for operation in the United States under the provisions of section 21.29 of the Federal Aviation Regulations (14 CFR 21.29) and the applicable bilateral airworthiness agreement. Pursuant to this bilateral airworthiness agreement, the DAC has kept the FAA informed of the situation described above. The FAA has examined the findings of the DAC, reviewed all available information, and determined that AD action is necessary for products of this type design that are certificated for operation in the United States.

Explanation of Requirements of Rule

Since an unsafe condition has been identified that is likely to exist or develop on other airplanes of the same type design registered in the United States, this AD is being issued to prevent failure of the rivets of the Gamah coupling and consequent separation of a Gamah coupling, which could result in fuel leakage and consequent fire in or around the wing. This AD requires a one-time inspection of the hinge and locking fastener of the Gamah coupling of the fuel system tubing located in the wing dry bay to detect discrepancies, and follow-on corrective actions. The actions are required to be accomplished in accordance with the service bulletin described previously.

Differences Between Rule and Related Service Information

Operators should note that the alert service bulletin specifies installation of an additional retention device to secure the Gamah couplings with tie-down straps or locking wire; however, this AD allows use of the locking wire only.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-301-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-19-03 Empresa Brasileira de Aeronautica S.A. (EMBRAER): Amendment 39-11904. Docket 2000-NM-301-AD.

Applicability: Model EMB-135 and EMB-145 series airplanes, as listed in Embraer Alert Service Bulletin S.B. 145-28-A014, dated August 25, 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the rivets attaching the Gamah coupling hinge to the fuel system tubing and consequent separation of the coupling, which could result in fuel leakage and consequent fire in or around the wing, accomplish the following:

General Visual Inspection

(a) Perform a one-time general visual inspection of the hinge and locking fastener of the Gamah couplings of the fuel system tubing located in the wing dry bay to detect discrepancies (including coupling separation, and loose rivets on the coupling hinge or locking fastener attaching points), in accordance with Embraer Alert Service Bulletin S.B. 145-28-A014, dated August 25, 2000; at the times specified in paragraphs (a)(1) and (a)(2) of this AD, as applicable. If no discrepancies are detected, secure the Gamah couplings with locking wire in accordance with the alert service bulletin.

(1) For airplanes having serial numbers 145004 through 145103 inclusive; 145105 through 145121 inclusive; 145123 through 145139 inclusive; 145141 through 145153 inclusive; 145155 through 145176 inclusive: Within 400 flight hours after the effective date of this AD.

(2) For airplanes having serial numbers 145177 through 145189 inclusive; 145191 through 145230 inclusive; 145232 through 145251 inclusive; 145253 through 145255 inclusive; 145258 through 145262 inclusive; 145264 through 145293 inclusive; 145295, 145296, and 145298 through 145300 inclusive: Within 50 flight hours after the effective date of this AD.

Follow-On Corrective Actions

(b) If any discrepancies (including coupling separation, and loose rivets on the coupling hinge or locking fastener attaching points) are detected after accomplishment of the inspection required by paragraph (a) of this AD: Before further flight, replace any affected Gamah couplings and secure the Gamah couplings with locking wire in accordance with Embraer Alert Service Bulletin S.B. 145-28-A014, dated August 25, 2000. Accomplishment of this paragraph terminates the requirements of this AD.

Alternative Methods of Compliance

(c) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta ACO.

Note 2: Information concerning the existence of approved alternative methods of compliance with this AD, if any, may be obtained from the Atlanta ACO.

Special Flight Permits

(d) Special flight permits may be issued in accordance with §§ 21.197 and 21.199 of the Federal Aviation Regulations (14 CFR 21.197 and 21.199) to operate the airplane to a location where the requirements of this AD can be accomplished.

Incorporation by Reference

(e) The actions shall be done in accordance with Embraer Alert Service Bulletin S.B. 145-28-A014, dated August 25, 2000. This incorporation by reference was approved by the Director of the Federal Register in accordance with 5 U.S.C. 552(a) and 1 CFR part 51. Copies may be obtained from Empresa Brasileira de Aeronautica S.A. (EMBRAER), P.O. Box 343—CEP 12.225, Sao Jose dos Campos—SP, Brazil. Copies may be inspected at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

Note 3: The subject of this AD is addressed in Brazilian airworthiness directive 2000-09-01, dated September 1, 2000.

(f) This amendment becomes effective on October 3, 2000.

Issued in Renton, Washington, on September 8, 2000.
Donald L. Riggin,
Acting Manager, Transport Airplane Directorate, Aircraft Certification Service.

[FR Doc. 00-23581 Filed 9-15-00; 8:45 am]

BILLING CODE 4910-13-U